DEPARTMENT OF TRANSPORTATION

Federal Transit Administration

Intent To Prepare an Environmental Impact Statement on the Durham-Orange Light Rail (LRT) Project, Durham and Orange Counties, NC

AGENCY: Federal Transit Administration (FTA), United States Department of Transportation (USDOT).

ACTION: Notice of Intent (NOI) to prepare an Environmental Impact Statement (EIS).

SUMMARY: The Federal Transit Administration (FTA) and the Research Triangle Regional Public Transportation Authority, dba “Triangle Transit,” intend to prepare an Environmental Impact Statement (EIS) to study a proposed premium transit service corridor in Durham and Orange Counties, North Carolina. The EIS will be prepared in accordance with the National Environmental Policy Act (NEPA: 42 U.S.C. 4321 et seq.) of 1969 and the regulations implementing NEPA set forth in 40 CFR Parts 1500-1508 and 23 CFR Part 771, as well as provisions set forth in the Safe, Accountable, Flexible, and Efficient Transportation Equity Act: A Legacy for Users (SAFETEA-LU). The purpose of this Notice is to: (1) Advise the public that FTA is serving as the lead Federal agency; (2) provide information on the proposed project, purpose and need for the project, and alternatives to be considered; and (3) invite public and agency participation in the EIS process.

DATES: Comment Due Date: Written or electronic comments on the scope of the EIS, including the purpose and need for transportation action in the corridor, and alternatives and impacts to be considered should be sent to the project team (see ADDRESSES below) by Monday, June 18, 2012.

Scoping Meetings Dates: Scoping meetings will be held during the week of April 30, 2012 at the following times and locations. The scoping meeting locations are accessible by transit and to persons with disabilities. Confirmed times and locations will also be published in local notices and on the project Web site.

Elected Officials and Partners Meeting: Tuesday, April 24, 2012; 10 a.m.-12 p.m. noon; Extraordinary Ventures Center, 200 S. Elliott Rd., Chapel Hill, NC 27514.

Agency Meeting: Thursday, May 3, 2012; 1 p.m. to 3 p.m.; Durham Armory, 212 Foster St., Durham, NC 27701.

Public Scoping Meetings: Wednesday May 2, 2012; 4 p.m.-7 p.m.; Extraordinary Ventures Center, 200 S. Elliott Rd., Chapel Hill, NC 27514. Thursday, May 3, 2012; 4 p.m.-7 p.m.; Durham Armory, 212 Foster St., Durham, NC 27701.

ADDRESSES: Written comments on the scope of alternatives and impacts to be studied should be sent to the project team via one of the following methods: Mail to Durham-Orange LRT Project, P.O. Box 580, Morrisville, North Carolina 27560; fax to Durham-Orange LRT Project at 919.461.1415; or email to info@ourtransitfuture.com. Comments may also be offered at the public scoping meetings. The addresses for the public scoping meetings are included above. All meeting locations are accessible by transit and to persons with disabilities. The project team must be contacted by Wednesday, April 25, 2012 regarding special needs such as signing or translation service for languages other than Spanish. Spanish translation services will be provided at the public meetings. The times and locations for the public scoping meetings will also be provided through display advertisements in local newspapers; newsletters that will be mailed to persons on the project database that have expressed an interest in the project; email notifications; media releases that will be distributed to all print and electronic media serving the corridor; and posting of information on the project Web site.

The Scoping Information Booklet is available on the project Web site at http://www.ourtransitfuture.org/index.php/projects/durham-orange/. The booklet is also available in hardcopy form by contacting the project team as indicated below.

Additional scoping information or other project information may be requested by calling the project hotline at 1-800-816-7817, visiting the Web site at http://www.ourtransitfuture.org/index.php/projects/durham-orange/, or by mailing a request to Durham-Orange LRT Project, P.O. Box 580, Morrisville, North Carolina 27560.

FOR FURTHER INFORMATION CONTACT: Mr. Brian C. Smart, Environmental Protection Specialist, Federal Transit Administration, 230 Peachtree Street NW., Suite 800, Atlanta, GA 30303, telephone (404) 865-5607.

SUPPLEMENTARY INFORMATION:

I. Scoping

In accordance with Section 6002 of SAFETEA-LU, FTA and Triangle Transit invite comment on the scope of the EIS, specifically on the proposed project's purpose and need, the alternatives to be evaluated that may address the purpose and need, and the impacts of the alternatives considered. Specific suggestions related to additional alternatives are welcome and will be considered in the development of the scope of the EIS. Scoping comments may be made at the scoping meetings or in writing no later than Monday, June 18, 2012 (see DATES and ADDRESSES above).

Scoping materials will be available at the meeting or in advance of the meeting by contacting the project team as indicated above. If you wish to be placed on the mailing list to receive further information as the project continues, contact the project team (see ADDRESSES above).

The relationships between concurrent projects such as the NC 54/I-40 Corridor Study and other projects will be considered in the EIS.

Subsequent to the completion of the Scoping Summary document and prior to initiation of the DEIS, a concluding stakeholders meeting will be held during which interested federal, state and local government agencies will collectively process all input and formally develop the final scope of the EIS.

II. Purpose and Need for the Proposed Project

The purpose of the proposed premium high-capacity transit investment in the Durham-Orange Corridor is to provide a transit solution that addresses the following mobility and development needs:

• Need to enhance mobility: The Durham-Orange Corridor is forecast to absorb a significant share of the region's population and employment growth, which will translate into increased travel demand. By 2035, the corridor is projected to add about 74,000 people and 81,000 jobs, which is expected to generate 255,000 additional daily trips, many of which will be made on local roadways. These trips will increase congestion during the highest AM and PM travel periods. Alternatives to the auto are needed to address the limited capacity of the roadway system to accommodate increased travel demand.

• Need to expand transit options between Durham and Chapel Hill: Most bus service in the Durham-Orange Corridor is concentrated in downtown Durham and downtown Chapel Hill. Transit connecting these urban centers and serving the residential areas and retail developments between them is limited to two Triangle Transit routes and the Duke University Robertson Scholars Express Bus. Currently, these buses operate in mixed traffic along increasingly congested roadways, have limited capacity, and are not competitive with the auto for most trips. Furthermore, the Study Area does not currently offer the type of high quality premium transit service that is an attractive alternative to driving, particularly under congested conditions.

• Need to serve population with high propensity for transit use: University students and employees, as well as transit-dependent populations, are a significant percentage of the population in the Durham-Orange Corridor. Expanding transit services and increasing access to each of the university campuses and medical centers, which offer pedestrian-friendly environments, limited parking, and free transit passes, will support increased mobility options for university students, employees and other patrons. Also, expanding reliable mobility options for lower income populations and transit users who may not be able to drive will enhance economic opportunities through improved access to major jobs centers along the corridor. Providing a transit option that supports the mobility of these groups satisfies an important need.

• Need to foster compact development: Local governments recognize the need to limit sprawl and manage growth within the Study Area. Durham City/County, Chapel Hill, and Orange County have developed plans and implementation strategies that call for more compact, walkable, higher density, mixed-use development within the corridor. However, the existing transit infrastructure throughout the corridor is not fully supportive of these land use plans and implementation strategies and cannot facilitate long-term economic development. A proposed fixed guideway transit investment can channel future growth, provide a superior transit option appropriate for high density development, and help local communities realize their future goals and objectives.

III. Study Area Description

Located in both Durham and Orange counties, the Durham-Orange Corridor Study Area extends approximately 17 miles, beginning in southwest Chapel Hill and encompassing the UNC campus, downtown Chapel Hill, suburban areas along NC 54, US 15-501, NC 147 (Durham Freeway), I-40, Duke University, and downtown and east Durham.

IV. Alternatives Analysis and Results

The Durham-Orange County Corridor Alternatives Analysis (AA) Report (available at http://www.ourtransitfuture.org/index.php/projects/durham-orange/d-o-maps-reports#aa) responds to Federal regulations for transit projects seeking New Starts funding (Title 49 United States Code [U.S.C.] 5309.) The Durham-Orange County Corridor AA considered a Transportation Systems Management (TSM) Alternative, Bus Rapid Transit (BRT) alternatives, and a light rail alternative. The BRT and light rail routes included alignments on new location and within the right-of-way of existing roads, with a variety of station locations. All of the alternatives that were evaluated would run from the terminus at the UNC Hospitals eastwards to Fordham Boulevard, east along NC 54, north parallel to I-40 and then within the US 15-501corridor to Erwin Road. The corridor follows Erwin Road past Duke University and Medical Center and turns east parallel to NC 147 through downtown Durham and terminates at Alston Avenue in east Durham. These alternatives were evaluated based upon their ability to meet the project's purpose and need statement (stated above), and considering factors such as ridership and transportation operations, land use, expansion potential, economic development potential, public and agency support, environmental impacts, technical and financial feasibility and cost. Triangle Transit conducted the AA in coordination with the jurisdictions and agencies with interests in the corridor, including Durham and Orange counties, the Town of Chapel Hill, City of Durham, Durham-Chapel Hill-Carrboro Metropolitan Planning Organization (DCHC MPO), and the North Carolina Department of Transportation.

The AA concluded by identifying the most promising alternatives for further analysis. It identified LRT as the only mode that most fully satisfies the Purpose and Need for premium transit service in the Durham-Orange Corridor related to enhancing mobility, expanding transit options between Durham and Chapel Hill, serving populations with high propensity for transit use, and fostering compact development and economic growth. While an exclusive-running BRT Alternative has the potential to meet the project's purpose and need and is competitive in meeting most project goals, it does not perform as well as LRT in relation to supporting local and regional economic development, planned growth management initiatives, travel time savings, and cost effectiveness of expanding ridership capacity. Local and regional stakeholders place a high level of importance on economic development potential and focusing growth within the proposed transit corridor through transit-oriented development. The LRT Alternative has a high-level of demonstrated public support and a proven record of producing local and regional economic development benefits by enhancing and focusing growth within LRT corridors. On February 8, 2012, the DCHC MPO Transportation Advisory Committee (TAC) (MPO's policy board) unanimously adopted the LRT Alternative as the preliminary locally preferred alternative (LPA). The Alternatives Analysis findings are available on the project Web site at http://www.ourtransitfuture.org/index.php/projects/durham-orange.

IV. Potential EIS Alternatives

The results of the AA have led FTA and Triangle Transit to consider for inclusion in the EIS the following range of alternatives, on which FTA and Triangle Transit request public and agency comments. The EIS will evaluate the following alternatives between the University of North Carolina (UNC) Hospitals and east Durham: A No-Build alternative; a Transportation System Management (TSM) alternative consisting of an enhanced bus network that provides a level of transit service and capacity roughly equivalent to that of a fixed-guideway transit service; and a Light Rail Transit (LRT) alternative consisting of a new fixed-guideway rail alignment and support facilities. Scoping will be accomplished through correspondence with interested persons, organizations, and federal, state, and local agencies, and through public and agency meetings. The FTA and Triangle Transit invite interested individuals, organizations, and federal, state and local agencies to participate in defining the alternatives to be evaluated and identifying any significant social, economic, and/or environmental issues related to the alternatives.

1. No-Build

The No-Build alternative includes all highway and transit facilities identified in the fiscally constrained joint Durham-Chapel Hill-Carrboro Metropolitan Planning Organization (MPO)—Capital Area MPO 2035 Long-Range Transportation Plan (LRTP), with the exception of the comprehensive system-wide rail transit network, part of which is the subject of this EIS. The No-Build alternative is used as a starting point to provide a comparison of all Build alternatives in terms of costs, benefits, and impacts.

2. Transportation System Management

The TSM alternative is required for inclusion in the EIS by the FTA when federal funds are sought for capital improvements. The primary purpose of the TSM alternative is to develop an enhanced and robust bus network in the Durham-Orange Corridor that provides a level of transit service and capacity roughly equivalent to that of a fixed-guideway improvement. The intention is to compare the efficiency and cost-effectiveness of a significant bus network in the corridor with fixed-guideway improvements to determine the impact on transit ridership, travel time, and other measures. The backbone of the TSM alternative would be a new bus route operating between UNC Hospitals and east Durham, covering a distance of approximately 19 miles from Chapel Hill to Durham. Buses would operate at 10-minute headways in the peak periods and 20-minute headways in the off-peak periods. Travel time between the UNC Hospitals in Chapel Hill and Alston Avenue in east Durham is estimated to be 57 minutes. The high-frequency bus route would closely follow that of the LRT alternative, as described below.

3. Light Rail Transit

The LRT alternative would operate light rail transit vehicles between UNC Hospitals and east Durham, covering a distance of approximately 17.1 miles. The LRT would operate at 10-minute frequencies during peak hours and 20-minute frequencies during off-peak hours. LRT travel time is estimated to be 35 minutes between the UNC Hospitals Station in Chapel Hill and the Alston Avenue Station in east Durham. The alignment would be double-tracked throughout, with one track for each direction of travel. The alignment would primarily run at-grade in a dedicated right-of-way parallel to existing roadways, with elevated sections throughout to mitigate potential traffic impacts and/or impacts to environmental resources.

V. Probable Effects

The EIS evaluation will analyze the social, economic, and environmental impacts of the alternatives. Major issues to be evaluated include air quality, noise and vibration, aesthetics, community cohesion impacts, potential natural resource impacts, and possible disruption of neighborhoods, businesses and commercial activities. The impact areas and level of detail addressed in the EIS will be consistent with the requirements of SAFETEA-LU Section 6002 and the FTA/Federal Highway Administration environmental regulation (Environmental Impact and Related Procedures, 23 CFR Part 771 and 40 CFR Parts 1500-1508) and other environmental and related regulations. Among other factors, the EIS will evaluate the following:

• Transportation service including future corridor capacity.

• Transit ridership and costs.

• Traffic movements and changes, and associated impacts to local facilities.

• Community impacts such as land use, displacements, noise and vibration, neighborhood compatibility and aesthetics.

• Resource impacts including impacts to historic and archeological resources, parklands, cultural resource impacts, environmental justice, and natural resource impacts including air quality, wetlands, water quality, wildlife, and vegetation.

The proposed impact assessment and evaluation will take into account both positive and negative impacts, direct and indirect impacts, short-term (during the construction period) and long-term impacts, and site-specific as well as corridor-wide and cumulative impacts. Mitigation measures will be considered for any significant environmental impacts identified. Other potential impacts may be added as a result of scoping and agency coordination efforts.

VI. FTA Procedures

The EIS is being prepared in accordance with the National Environmental Policy Act of 1969 (NEPA), as amended, and implemented by the Council on Environmental Quality (CEQ) regulations (40 CFR Parts 1500 to 1508) and FHWA environmental impact regulations (49 CFR Part 622, 23 CFR Part 771, and 23 CFR Part 774) and Section 6002 of the Safe, Accountable, Flexible, Efficient Transportation Equity Act—A Legacy for Users (SAFETEA-LU) of 2005. This EIS will also comply with requirements of Section 106 of the National Historic Preservation Act of 1966, as amended (36 CFR Part 800), Section 4(f) of the U.S. Department of Transportation Act of 1966 (23 CFR 771.135), the 1990 Clean Air Act Amendments, Executive Order 12898 (Federal Actions to Address Environmental Justice in Minority and Low-Income Populations), Executive Order 11990 (Protection of Wetlands), the regulation implementing Section 7 of the Endangered Species Act (50 CFR Part 402), and other applicable federal laws, rules, and regulations. This EIS will also satisfy local and state environmental review requirements.

Regulations implementing NEPA, as well as provisions of SAFETEA-LU, call for enhanced agency and public involvement in the EIS process. An invitation to all Federal and non-Federal agencies and Native American tribes that may have an interest in the proposed project will be extended. In the event that an agency or tribe is not invited and would like to participate, please contact Brian Smart at the contact information listed above. The public coordination and outreach efforts will include public meetings, open houses, a project Web site, stakeholder advisory and work groups, and public hearings.

The project sponsor may identify a locally preferred alternative in the DEIS when made available for public and agency comments. Public hearings on the DEIS will be held. On the basis of the DEIS and the public and agency comments received, the Project Sponsor will identify the locally preferred alternative in the FEIS. The FEIS will serve as the basis for federal and state environmental findings and determinations needed to conclude the environmental review process.

(Catalog of Federal Domestic Assistance Program Number 20.205, Highway Planning and Construction. The regulations implementing Executive Order 12372 regarding intergovernmental consultation on Federal programs and activities apply to this program.)

Issued on: March 27, 2012.
Yvette G. Taylor,
Regional Administrator.

[FR Doc. 2012-7897 Filed 4-2-12; 8:45 am]

BILLING CODE P